SMALL BUSINESS ADMINISTRATION

Privacy Act of 1974; Revision of Privacy Act System of Records

AGENCY: Small Business Administration.

ACTION: Notice of revision of Privacy Act System of Records.

SUMMARY: The Small Business Administration (SBA) Office of Inspector General (OIG) is revising its Privacy Act System of Records, SBA 120, Security and Investigations Files, and SBA 130, Investigations Division Management Information System, to include as routine uses the disclosure of information to the public when: (1) An investigation has become public knowledge; (2) it is necessary to preserve confidence in the integrity of the investigative process; (3) it is necessary to demonstrate the accountability of individuals covered by this system; (4) a legitimate public interest exists; or (5) it is necessary for the protection from imminent threat to life or property.

In addition, the revision includes a routine use to allow the disclosure of information to members of the President's Council on Integrity and Efficiency (PCIE) for the purpose of accurate reporting to the President and Congress on the activities of the Inspectors General. The revision further includes a routine use to allow disclosures to members of the PCIE, the Department of Justice, the Federal Bureau of Investigation, or the U.S. Marshals Service, as necessary, for investigative qualitative assessment review. The PCIE is establishing a peer review process to ensure that adequate internal safeguards and management procedures continue to exist. The objectives of the review are to assess whether adequate internal safeguards and management procedures are met, foster high-quality investigations and investigative processes, ensure that the highest levels of professionalism are maintained, and promote consistency in investigative standards and practices within the Inspector General investigative community.

DATES: The changes to this System of Records are effective without further notice October 10, 2002, unless comments are received that result in further modifications.

ADDRESSES: Address comments to David R. Gray, Counsel to the Inspector General, Office of Inspector General, Small Business Administration, 409 Third Street SW., 5th Floor, Washington, DC 20416.

FOR FURTHER INFORMATION CONTACT: David R. Gray, Counsel to the Inspector General, Office of Inspector General, Small Business Administration, 409 Third Street SW., 5th Floor, Washington, DC 20416, (202) 205-7200.

SUPPLEMENTARY INFORMATION: This publication is in accordance with the Privacy Act requirement that Agencies publish their amended Systems in the Federal Register when there is a revision, change, or addition. SBA is amending the Routine Uses of System of Records, SBA 120 Security and Investigations Files, and SBA 130 Investigations Division Management Information System previously published at 56 FR 8030 (Feb. 26, 1991) and 56 FR 8034 (Feb. 26, 1991). The Routine Use Notices of System 120, Security and Investigation Files, and System 130, Investigations Division Management Information System, are being amended to specifically allow the disclosure of names of indicted or convicted individuals in the Office of Inspector General (OIG) Semiannual Report, monthly reports, and press releases or other forms of communication with the media. SBA's objective in allowing disclosure of names is to enhance the deterrence of similar crimes against the Agency. In addition, the amended routine uses would allow the disclosure of information to the PCIE for the preparation of reports to the President and Congress on the activities of the Inspectors General. Finally, the amendments would allow the disclosure of information to members of the PCIE, the Department of Justice, the Federal Bureau of Investigation, or the U.S. Marshals Service, as necessary, for the purpose of investigative qualitative assessment reviews to ensure adequate internal safeguards and management procedures are maintained.

These notices contain minor typographical changes. Several data elements have also been updated and clarified: (1) SBA 120, Security and Investigations Files—safeguards, retention and disposal, system manager(s) and address, and record source categories, and (2) SBA 130, Investigations Division Management Information System—retention and disposal, system manager(s) and address, and record source categories.

System Name:

Security and Investigations Files—SBA 120.

Routine Uses of Records Maintained in the System, Including Categories of Users and the Purposes of Such Uses:

These records may be disclosed, as a routine use, to the public when: (1) The matter under investigation has become public knowledge, or (2) when the Inspector General determines that such disclosure is necessary (a) to preserve confidence in the integrity of the OIG investigative process, or (b) to demonstrate the accountability of SBA officers, or employees, or other individuals covered by this system; unless the Inspector General determines that disclosure of the specific information in the context of a particular case would constitute an unwarranted invasion of personal privacy.

These records may be disclosed, as a routine use, to the news media and public when there exists a legitimate public interest (e.g., to provide information on events in the criminal process, such as indictments), or when necessary for protection from imminent threat to life or property.

These records may be disclosed, as a routine use, to members of the President's Council on Integrity and Efficiency, for the preparation of reports to the President and Congress on the activities of the Inspectors General.

These records may be disclosed, as a routine use, to members of the President's Council on Integrity and Efficiency, the Department of Justice, the Federal Bureau of Investigation, or the U.S. Marshals Service, as necessary, for the purpose of conducting qualitative assessment reviews of the investigative operations of SBA OIG to ensure that adequate internal safeguards and management procedures are maintained.

System Name:

Investigations Division Management Information System—SBA 130.

Routine Uses of Records Maintained in the System, Including Categories of Users and the Purposes of Such Uses:

These records may be disclosed, as a routine use, to the public when: (1) The matter under investigation has become public knowledge, or (2) when the Inspector General determines that such disclosure is necessary (a) to preserve confidence in the integrity of the OIG investigative process, or (b) to demonstrate the accountability of SBA officers, or employees, or other individuals covered by this system; unless the Inspector General determines that disclosure of the specific information in the context of a particular case would constitute an unwarranted invasion of personal privacy.

These records may be disclosed, as a routine use, to the news media and public when there exists a legitimate public interest (e.g., to provide information on events in the criminal process, such as indictments), or when necessary for protection from imminent threat to life or property.

These records may be disclosed, as a routine use, to members of the President's Council on Integrity and Efficiency, for the preparation of reports to the President and Congress on the activities of the Inspectors General.

These records may be disclosed, as a routine use, to members of the President's Council on Integrity and Efficiency, the Department of Justice, the Federal Bureau of Investigation, or the U.S. Marshals Service, as necessary, for the purpose of conducting qualitative assessment reviews of the investigative operations of SBA OIG to ensure that adequate internal safeguards and management procedures are maintained.

Dated: August 28, 2002.
Gloria E. Blazsik,
Acting Senior Privacy Act Official.

SBA 120

System Name:

Security and Investigations Files—SBA 120.

System Location:

Office of Inspector General (OIG), Investigations Division, Central Office duty stations in the field, and Federal Records Centers. See Appendices A and B for addresses.

Categories of Individuals Covered by the System:

Applicants for, recipients of, and other parties in interest (e.g., guarantors) to SBA disaster loans. Principals and representatives of applicant and recipient businesses and other parties in interest to, as well as governmental entities, participating in the various SBA programs, including but not limited to all types of direct and guaranteed loans and other guarantee programs, the Small Business Investment Company (SBIC) program, the state, local, and Certified Development Company programs, the section 7(j) assistance program and section 8(a) business development program, as well as other contractors, grantees, and participants in cooperative agreements with SBA. Records are also maintained on the principal SBIC directors and stockholders. In addition, records are maintained on persons who supply information and the information supplied on SBA employees against whom allegations have been made and investigations conducted; and on members of Advisory Councils, the Service Corps of Retired Executives, and the Active Corps of Executives volunteers.

Categories of the Records in the System:

This system of records contains material gathered or created during the preparation for, conduct of, and follow up on, investigations conducted by OIG, the Federal Bureau of Investigation (FBI) and other Federal, state, local or foreign regulatory or law enforcement agencies as well as other material submitted to or gathered by OIG in furtherance of its investigative function. These records include FBI and other Federal, state, local and foreign regulatory or law enforcement investigative reports and include personal history statements, background character checks, field investigations, arrest and conviction records, parole and probation data, recommendations and related correspondence.

Authority for Maintenance of the System:

5 U.S.C. app.; 15 U.S.C. chs. 14A and 14B; 44 U.S.C. 3101.

Routine Uses of Records Maintained in the System, Including Categories of Users and the Purposes of Such Uses:

In the event that a system of records maintained by this Agency to carry out its functions indicates a violation or potential violation of law, whether civil, criminal or administrative in nature, and whether arising by general statute or particular program statute, or by regulation, rule or order issued pursuant thereto, the relevant records in the system of records may be referred, as a routine use, to the appropriate agency, whether Federal, state, local, foreign, international, private agency or organization involved in investigation or prosecution of such violations or charged with enforcing or implementing the statute or rule, regulation or order issued pursuant thereto.

A record from this system of records may be disclosed, as a routine use, in the course of presenting evidence in or to a court, magistrate, administrative tribunal, or grand jury, including disclosures to opposing counsel in the course of such proceedings or in settlement negotiations.

A record from this system of records which indicates either by itself or in combination with other information within the agency's possession, a violation or potential violation of law, whether civil, criminal or regulatory and whether arising by general statute or particular program statute, or by regulation, rule or order issued pursuant thereto, may be disclosed, as a routine use, to the appropriate Federal, state, local, foreign, international, private agency or organization charged with the responsibility of investigating or prosecuting such violation or charged with enforcing or implementing or investigating or prosecuting such violation or charged with enforcing or implementing the statute or rule, regulation or order issued pursuant thereto.

These records may be disclosed, as a routine use, to any source or person, either private or governmental, to the extent necessary to secure from such source information relevant to, and sought in furtherance of, a legitimate investigation concerning a violation of any Federal, state, local or foreign law, rule, regulation or order or the commission of an offense.

These records may routinely be disclosed to other Federal agencies, in response to their requests in connection with the conduct of background checks. Disclosure will be made only to the extent that the information is relevant and necessary to the requesting agencies' function.

These records may be disclosed, as a routine use, to any Federal, state, local, foreign, international, private agency or organization in connection with such entity's assignment, hiring or retention of an individual, issuance of a security clearance, reporting of an investigation of an individual, letting of a contract or issuance of a license, grant or other benefit, to the extent that the information is relevant and necessary to such agency's decision on the matter.

These records may be disclosed as a routine use, to a domestic, foreign, or international governmental agency maintaining civil, criminal or other relevant enforcement information, or other pertinent information, in order to obtain information relevant to an agency decision concerning the assignment, hiring or retention of an individual, the issuance of a security clearance, the letting of a contract, or the issuance of a license, grant, or other benefit.

These records may be disclosed to Federal, state or local bar associations and other professional regulatory or disciplinary bodies for use in disciplinary proceedings and inquiries preparatory thereto.

These records may be disclosed, as a routine use, to a Member of Congress who submits an inquiry on behalf of an individual when the Member of Congress informs the appropriate agency official that the individual to whom the record pertains has authorized the Member of Congress to have access. In such cases, the member has no greater right to the record than does the individual. These records may be used to provide data to the General Accounting Office for periodic reviews of this Agency.

These records may be disclosed, as a routine use, to the Office of Government Ethics for any purpose consistent with that office's mission, including the compilation of statistical data.

These records may be disclosed, as a routine use, to the General Accounting Office and to the General Services Administration's Board of Contract Appeals in bid protest cases involving an agency procurement.

These records may be disclosed, as a routine use, to any Federal agency which has the authority to subpoena other Federal agencies' records and which has issued a facially valid subpoena for the record.

These records may be disclosed, as a routine use, to the Department of the Treasury and the Department of Justice when an agency is seeking an ex parte court order to obtain taxpayer information from the Internal Revenue Service.

These records may be disclosed, as a routine use, to debt collection contractors for the purpose of collecting delinquent debts as authorized by the Debt Collection Act of 1982, 31 U.S.C. 3718.

These records may be disclosed, as a routine use, to a “consumer reporting agency” as that term is defined in the Fair Credit Reporting Act (15 U.S.C. 1681a(f)) and the Federal Claims Collection Act of 1966 (31 U.S.C. 3701(a)(3)), for the purposes of obtaining information in the course of an investigation.

These records may be disclosed, as a routine use, to agency personnel responsible for bringing Program Fraud Civil Remedies Act litigation, to the persons constituting the tribunal hearing such litigation or any appeals therefrom, and to counsel for the defendant party in any such litigation.

These records may be disclosed, as a routine use, to a grand jury agent pursuant either to a Federal or state grand jury subpoena or to a prosecution request that such record be released for the purpose of its introduction to a grand jury.

These records may be disclosed, as a routine use, to members of the public under the Freedom of Information Act, 5 U.S.C. 552.

These records may be disclosed, as a routine use, to the U.S. Department of Justice in order to obtain that department's advice regarding an agency's disclosure obligations under the Freedom of Information Act.

These records may be disclosed, as a routine use, to the Office of Management and Budget in order to obtain that office's advice regarding an agency's obligations under the Privacy Act.

It shall be routine use of the records in this system of records to disclose them to the Department of Justice when:

(a) SBA, or any component thereof; or

(b) Any employee of SBA in his or her official capacity; or

(c) Any employee of SBA in his or her individual capacity where the Department of Justice has agreed to represent the employee; or

(d) The United States, where SBA determines that litigation is likely to affect SBA or any of its components, is a party to litigation or has an interest in such litigation, and the use of such records by the Department of Justice is deemed by SBA to be relevant and necessary to the litigation, provided, however, that in each case, the Agency determines that disclosures of the records to the Department of Justice is a use of the information contained in the records that is compatible with the purpose for which the records were collected.

These records may be disclosed, as a routine use, to the Agency's legal representative, to include the Department of Justice and other outside counsel, where the Agency is a party in litigation or has an interest in litigation when:

(a) SBA, or any component thereof; or

(b) Any employee of SBA in his or her official capacity; or

(c) Any employee of SBA in her or her individual capacity, where the Department of Justice has agreed or is considering a request to represent the employee; or

(d) The United States, where SBA determines that litigation is likely to affect SBA or any of its components, is a party to litigation or has an interest in such litigation, and SBA determines that the use of such records by the Department of Justice is relevant and necessary to litigation; provided however, that in each case, SBA determines that disclosures to the records to the Department of Justice is a use of the information contained in the records that is compatible with the purpose for which the records were collected.

It shall be a routine use of records maintained by SBA to disclose them in a proceeding before a court, grand jury or adjudicative body before which SBA is authorized to appear, when:

(a) SBA or any component thereof; or

(b) Any employee of SBA in his or her official capacity; or

(c) Any employee of SBA in his or her individual capacity where SBA has agreed to represent the employee; or

(d) The United States, where SBA determines that litigation is likely to affect SBA or any of its components, is a party to litigation or has an interest in such litigation, and the SBA determines that the use of such record is relevant and necessary to the litigation; provided, however, that in each case SBA determines that disclosure of the records is a use of the information contained in the records that is compatible with the purpose for which the records were collected.

These records may be disclosed, as a routine use, to the public when: (1) The matter under investigation has become public knowledge, or (2) when the Inspector General determines that such disclosure is necessary (a) to preserve confidence in the integrity of the OIG investigative process, or (b) to demonstrate the accountability of SBA officers, or employees, or other individuals covered by this system; unless the Inspector General determines that disclosure of the specific information in the context of a particular case would constitute an unwarranted invasion of personal privacy.

These records may be disclosed, as a routine use, to the news media and public when there exists a legitimate public interest (e.g., to provide information on events in the criminal process, such as indictments), or when necessary for protection from imminent threat to life or property.

These records may be disclosed, as a routine use, to members of the President's Council on Integrity and Efficiency, for the preparation of reports to the President and Congress on the activities of the Inspectors General.

These records may be disclosed, as a routine use, to members of the President's Council on Integrity and Efficiency, the Department of Justice, the Federal Bureau of Investigation, or the U.S. Marshals Service, as necessary, for the purpose of conducting qualitative assessment reviews of the investigative operations of SBA OIG to ensure that adequate internal safeguards and management procedures are maintained.

Policies and Practices for Storing, Retrieving, Accessing, Retaining, and Disposing of Records in the System:

Storage:

These records are currently maintained in rotary diebold power files, filing cabinets, file folders and computer databases.

Retrievability:

These records are indexed by name and cross-referenced to OIG files containing related material.

Safeguards:

Information is released only to authorized persons. Files are maintained in secure, controlled access rooms.

Retention and Disposal:

Following final agency action as the result of an investigation, field investigation records are transferred to the Central Office. In accordance with established record retention schedules, records are maintained in the Investigations Division's file room for six years and then transferred to the Federal Records Center, which destroys them after fifteen years. An electronic alphabetical index is maintained on all investigations for an indefinite period of time.

System Manager(s) and Address:

Assistant Inspector General for Investigations or Designee. See Appendix A for Central Office address.

Notification Procedure:

An individual may inquire as to whether the system contains a record pertaining to him or her by addressing a request in writing to the Inspector General. The address of OIG is contained in Appendix A.

Record Access Procedures:

In response to a request by an individual to determine whether the system contains a record pertaining to him or her, the Inspector General will set forth the procedures for gaining access to these records. If there is no record of the individual, he or she will be so advised.

Contesting Record Procedures:

Individuals desiring to contest or amend information maintained in the system should direct their request to the official listed in the above paragraph, stating the reasons for contesting it and the proposed amendment.

Record Source Categories:

Individuals to whom the records pertain, Agency personnel, third party informants, the Department of Justice, the Federal Bureau of Investigation, the U.S. Marshals Service, and other investigative Government agencies.

Exemptions Claimed for the System:

(1) Pursuant to 5 U.S.C. 522a(j)(2), this system of records is exempt from the application of all provisions of section 522a except sections (b), (c)(1) and (2), (e)(4)(A) thorough (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552a(k)(2) and (k)(5), except as otherwise provided therein, all investigatory material compiled for law enforcement purposes or for the purpose of determining suitability, eligibility, or qualifications for Federal civilian employment, military service, Federal contracts, or access to classified information contained in this system to records is exempt from sections (c)(3), (d), (e)(1), (e)(4)(G) through (I), and (f) of the Privacy Act. This exemption is necessary in order to protect the confidentiality of sources of information and to maintain access to sources necessary in making determinations of suitability for employment.

SBA 130

System Name:

Investigations Division Management Information System—SBA 130

System Location:

Office of Inspector General (OIG), Investigations Division.

Categories of Individuals Covered by the System:

Principals and representatives of applicants, participants, contractors, grantees, participants in cooperative agreements, and other parties in interest to, as well as governmental entities participating in, SBA programs. Records are also maintained on SBA employees against whom allegations have been made and investigations conducted; members of Advisory Councils; the Service Corps of Retired Executives; and the Active Corps of Executives volunteers.

Categories of Records in the System:

This system of records contains material gathered or created during preparation for, conduct of, and follow-up on, investigations conducted by OIG, the Federal Bureau of Investigation (FBI) and other Federal, state, local, or foreign regulatory or law enforcement agency. This system of records contains alphabetical indices of names and case numbers. These records include FBI and other Federal, state, local and foreign regulatory or law enforcement investigative reports and referrals and include arrest, indictment, and conviction records, parole and probation data and related information.

Authority for Maintenance of the System:

5 U.S.C. app.; 15 U.S.C. chs. 14A and 14B; 44 U.S.C. 3101.

Routine Uses of Records Maintained in the System, Including Categories of Users and the Purpose of Such Uses:

In the event that a system of records maintained by this Agency to carry out its functions indicates a violation or potential violation of law, whether civil, criminal, or administrative in nature, and whether arising by general statute or particular program statute, or by regulation, rule or order issued pursuant thereto, the relevant records in the system of records may be referred, as a routine use, to the appropriate agency, whether Federal, state, local or foreign, charged with responsibility for, or otherwise involved in, investigation or prosecution of such violations or charged with enforcing or implementing the statute or rule, regulation or order issued pursuant thereto.

A record from this system of records may be disclosed, as a routine use, in the course of presenting evidence in or to a court, magistrate, administrative tribunal or grand jury including disclosures to opposing counsel in the course of such proceedings or in settlement negotiations.

A record from this system of records, which indicates either by itself or in combination with other information within the agency's possession, a violation or potential violation of law, whether civil, criminal or regulatory and whether arising by general statute or particular program statute, or by regulation, rule or order issued pursuant thereto, may be disclosed, as a routine use, to the appropriate Federal, foreign, state, or local agency or professional organization charged with the responsibility of investigating or prosecuting such violation or charged with enforcing or implementing or investigating or prosecuting such violation or charged with enforcing or implementing the statute or rule, regulation or order issued pursuant thereto.

These records may be disclosed, as a routine use, to provide data to the General Accounting Office for periodic reviews of this Agency.

These records may be disclosed, as a routine use, to the Office of Government Ethics for any purpose consistent with that office's mission, including the compilation of statistical data.

It shall be a routine use of the records in this system of records to disclose them to the Department of Justice when:

(a) SBA, or any component thereof; or

(b) Any employee of SBA in his or her official capacity; or

(c) Any employee of SBA in his or her individual capacity where the Department of Justice has agreed to represent the employee; or

(d) The United States, where SBA determines that litigation is likely to affect the agency or any of its components, is a party to litigation or has an interest in such litigation, and the use of such records by the Department of Justice is deemed by SBA to be relevant and necessary to the litigation, provided, however, that in each case, the agency determines that disclosure of the records to the Department of Justice is a use of the information contained in the records that is compatible with the purpose for which the records were collected.

It shall be a routine use of records maintained by this agency to disclose them in a proceeding before a court, grand jury or adjudicative body before which SBA is authorized to appear, when:

(a) SBA, or any component thereof; or

(b) Any employee of SBA in his or her official capacity; or

(c) Any employee of SBA in his or her individual capacity where the Department of Justice has agreed to represent the employee; or

(d) The United States, where SBA determines that litigation is likely to affect the agency or any of its components, is a party to litigation or has an interest in such litigation, and SBA determines that use of such records is relevant and necessary to the litigation, provided, however, that in each case, SBA determines that disclosure of the records to a court, grand jury or other adjudicative body is a use of the information contained in the records that is compatible with the purpose for which the records were collected.

These records may be disclosed, as a routine use, to the public when: (1) The matter under investigation has become public knowledge, or (2) when the Inspector General determines that such disclosure is necessary (a) to preserve confidence in the integrity of the OIG investigative process, or (b) to demonstrate the accountability of SBA officers, or employees, or other individuals covered by this system; unless the Inspector General determines that disclosure of the specific information in the context of a particular case would constitute an unwarranted invasion of personal privacy.

These records may be disclosed, as a routine use, to the news media and public when there exists a legitimate public interest (e.g., to provide information on events in the criminal process, such as indictments), or when necessary for protection from imminent threat to life or property.

These records may be disclosed, as a routine use, to members of the President's Council on Integrity and Efficiency, for the preparation of reports to the President and Congress on the activities of the Inspectors General.

These records may be disclosed, as a routine use, to members of the President's Council on Integrity and Efficiency, the Department of Justice, the Federal Bureau of Investigation, or the U.S. Marshals Service, as necessary, for the purpose of conducting qualitative assessment reviews of the investigative operations of SBA OIG to ensure that adequate internal safeguards and management procedures are maintained.

Policies and Practices for Storing, Retrieving, Accessing, Retaining, and Disposing of Records in the System:

Storage:

These records are maintained in a secured electronic database system and on computer disks.

Retrievability:

These records are indexed by the subject's name, subject's Social Security Number, company name, case number, agent's name, or agent's identification number.

Safeguards:

Access to and use of these records is limited to those persons whose official duties require such access. Personnel screening is employed to prevent unauthorized disclosure.

Retention and Disposal:

These records are retained on computer disks and deleted when the investigative case file is destroyed. In accordance with established record retention schedules, investigative case files are maintained in the Investigations Division's file room for six years and then transferred to the Federal Records Center, which destroys them after fifteen years.

System Manager(s) and Address:

Assistant Inspector General for Investigations or Designee. See Appendix A for address.

Notification Procedure:

An individual may inquire as to whether the system contains a record pertaining to them by addressing a request in person or in writing to the Inspector General. The address of OIG is contained in Appendix A.

Record Access Procedures:

In response to a request by an individual to determine whether the system contains a record pertaining to him or her, the Inspector General will set forth the procedures for gaining access to these records. If there is no record of the individual, he or she will be so advised.

Contesting Record Procedures:

Individuals desiring to contest or amend information maintained in the system should direct their request to the official listed in the paragraph above, stating the reasons for contesting it and the proposed amendment.

Record Source Categories:

Individuals to whom the records pertain, Agency personnel, third party informants, the Department of Justice, the Federal Bureau of Investigation, the U.S. Marshals Service, and other investigative Government agencies.

Exemptions Claimed for the System:

(1) Pursuant to 5 U.S.C. 522a(j)(2), this system of records is exempt from the application of all provisions of section 522a except sections (b), (c)(1) and (2), (e)(4)(A) thorough (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552a(k)(2) and (k)(5), except as otherwise provided therein, all investigatory material compiled for law enforcement purposes or for the purpose of determining suitability, eligibility, or qualifications for Federal civilian employment, military service, Federal contracts, or access to classified information contained in this system to records is exempt from sections (c)(3), (d), (e)(1), (e)(4) (G) through (I), and (f) of the Privacy Act. This exemption is necessary in order to protect the confidentiality of sources of information and to maintain access to sources necessary in making determinations of suitability for employment.

[FR Doc. 02-22933 Filed 9-9-02; 8:45 am]

BILLING CODE 8025-01-P